DEPARTMENT OF TRANSPORTATION

Federal Aviation Administration

14 CFR Part 39

[Docket No. FAA-2014-0123; Directorate Identifier 2013-NM-040-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A300 B4-601, B4-603, B4-620, B4-622, -B4-605R, B4-622R, -F4-605R, F4-622R, and -C4-605R Variant F airplanes; and Model A310-203, -204, -221, -222, -304, -322, -324, and -325 airplanes. This proposed AD was prompted by a report of inner skin disbonding damage on a rudder. This proposed AD would require repetitive ultrasonic inspections for disbonding of certain rudders; an elasticity of laminate checker inspection; a woodpecker or tap test inspection; venting the core, if necessary; and repairing, if necessary. We are proposing this AD to detect and correct rudder disbonding, which could affect the structural integrity of the rudder.

DATES: We must receive comments on this proposed AD by April 14, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0123; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Comments Invited

We invite you to send any written relevant data, views, or arguments about this proposed AD. Send your comments to an address listed under the ADDRESSES section. Include “Docket No. FAA-2014-0123; Directorate Identifier 2013-NM-040-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2013-0039, dated February 26, 2013 (referred to after this as the Mandatory Continuing Airworthiness Information, or “the MCAI”), to correct an unsafe condition for the specified products. The MCAI states:

One A310 operator found substantial inner skin disbonding damage on a rudder that was previously inspected in accordance with the instructions of Airbus Service Bulletin (SB) A310-55-2044. The results of the subsequent investigation revealed that the most probable cause of this damage was a blunt impact with no visible damage from outside during the rudder handling. Damage like this might grow with pressure variation during ground-air-ground cycles, and tests performed with other rudders showed a rapid propagation of damage during artificial pressure cycling.

This condition, if not detected and corrected, could affect the structural integrity of the rudder.

To address this potential unsafe condition, Airbus issued Alert Operators Transmission (AOT) A55W002-12 [dated December 13, 2012], pending Aircraft Maintenance Manual (AMM) 27-21-21 PB401 revision to update rudder handling procedures.

For the reasons described above, this [EASA] AD requires ultrasonic test (UT) inspections of the affected rudders to detect signs of disbonding and, depending on findings, accomplishment of applicable corrective action(s).

Required actions also include an elasticity of laminate checker inspection to detect external and internal disbonding, and a woodpecker or tap test inspection to detect external disbonding. You may examine the MCAI in the AD docket on the Internet at http://www.regulations.gov by searching for and locating Docket No. FAA-2014-* * *.

Relevant Service Information

Airbus has issued Alert Operators Transmission A55W002-12, dated December 13, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Repair Approvals

In many FAA transport ADs, when the service information specifies to contact the manufacturer for further instructions if certain discrepancies are found, we typically include in the FAA AD a requirement to accomplish the action using a method approved by either the FAA or the State of Design Authority (or its delegated agent).

We have recently been notified that certain laws in other countries do not allow such delegation of authority, but some countries do recognize design approval organizations. In addition, we have become aware that some U.S. operators have used repair instructions that were previously approved by a State of Design Authority or a Design Approval Holder (DAH) as a method of compliance with this provision in FAA ADs. Frequently, in these cases, the previously approved repair instructions come from the airplane structural repair manual or DAH repair approval statements that were not specifically developed to address the unsafe condition corrected by the AD. Using repair instructions that were not specifically approved for a particular AD creates the potential for doing repairs that were not developed to address the unsafe condition identified by the MCAI AD, the FAA AD, or the applicable service information, which could result in the unsafe condition not being fully corrected.

To prevent the use of repairs that were not specifically developed to correct the unsafe condition, certain requirements of this proposed AD specify that the repair approval specifically refer to the FAA AD. This change is intended to clarify the method of compliance and to provide operators with better visibility of repairs that are specifically developed and approved to correct the unsafe condition. In addition, we use the phrase “its delegated agent, or the DAH with the State of Design Authority's design organization approval, as applicable” in this proposed AD to refer to a DAH authorized to approve certain required repairs for this proposed AD.

Costs of Compliance

We estimate that this proposed AD affects 89 airplanes of U.S. registry. We also estimate that it would take about 10 work-hours per product to comply with the basic requirements of this proposed AD. The average labor rate is $85 per work-hour. Required parts would cost about $0 per product. Based on these figures, we estimate the cost of this proposed AD on U.S. operators to be $75,650, or $850 per product.

We have received no definitive data that would enable us to provide a cost estimate for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new AD:

Airbus: Docket No. FAA-2014-0123; Directorate Identifier 2013-NM-040-AD.

(a) Comments Due Date

We must receive comments by April 14, 2014.

(b) Affected ADs

None.

(c) Applicability

This AD applies to the airplanes identified in paragraphs (c)(1) and (c)(2) of this AD, except airplanes on which modification 08827 has been embodied in production.

(1) Airbus Model A300 B4-601, B4-603, B4-620, B4-622, -B4-605R, B4-622R, -F4-605R, F4-622R, and -C4-605R Variant F airplanes, certificated in any category, all manufacturer serial numbers.

(2) Airbus Model A310-203, -204, -221, -222, -304, -322, -324, and -325 airplanes, certificated in any category, all manufacturer serial numbers.

(d) Subject

Air Transport Association (ATA) of America Code 55; Stabilizers.

(e) Reason

This AD was prompted by a report of inner skin disbonding damage on a rudder. We are issuing this AD to detect and correct rudder disbonding, which could affect the structural integrity of the rudder.

(f) Compliance

Comply with this AD within the compliance times specified, unless already done.

(g) Identification of Part Number

Within 3 months after the effective date of this AD, identify the rudder assembly part number (P/N) and serial number (S/N), in accordance with the Accomplishment Instructions of Airbus Alert Operator Transmission (AOT) A55W002-12, dated December 13, 2012. If the part number or serial number cannot be determined, before further flight, identify the part number and serial number in accordance with a method approved by either the Manager, International Branch, ANM-116, Transport Airplane Directorate, FAA; or EASA (or its delegated agent, or by the Design Approval Holder with EASA design organization approval, as applicable). For an identification method to be approved, the identification method approval must specifically refer to this AD.

(h) Inspections

If a rudder assembly part number starting with A55471500 is found during the inspection required by paragraph (g) of this AD, before further flight, do an ultrasonic (UT) inspection for damage (e.g., disbonding and liquid ingress) of the rudder side panel along the Z-profile and in the booster area, in accordance with Airbus Alert Operator Transmission (AOT) A55W002-12, dated December 13, 2012. If any damage is found, before further flight, do the inspections to confirm disbonding damage as specified in paragraph (h)(1) and (h)(2) of this AD, in accordance with Airbus Alert Operator Transmission (AOT) A55W002-12, dated December 13, 2012.

(1) Do an elasticity of laminate checker inspection to detect external and internal disbonding of the rudder side panel along the Z-profile and in the booster area.

(2) Do a woodpecker or tap test inspection to detect external disbonding of the rudder side panel along the Z-profile and in the booster area.

(i) Repair

(1) If any disbonding is confirmed during any inspection required by paragraphs (h)(1) and (h)(2) of this AD, before further flight, repair as specified in paragraphs (i)(1)(i) and (i)(1)(ii) of this AD, as applicable.

(i) If disbonding is less than or equal to 50 millimeters (mm) in width and less than or equal to 150 mm in length, before further flight, vent the core, using a method approved by either the Manager, International Branch, ANM-116, Transport Airplane Directorate, FAA; or EASA (or its delegated agent, or by the Design Approval Holder with EASA design organization approval, as applicable). Within 100 flight cycles after the UT inspection specified in paragraph (h) of this AD is done, repair using a method approved by the Manager, International Branch, ANM-116, Transport Airplane Directorate, FAA; or EASA (or its delegated agent, or the Design Approval Holder with EASA's design organization approval, as applicable). For a repair method to be approved, the repair approval must specifically refer to this AD.

(ii) If disbonding is greater than 50 mm in width or greater than 150 mm in length, before further flight, repair using a method approved by the Manager, International Branch, ANM-116, Transport Airplane Directorate, FAA; or EASA (or its delegated agent, or the Design Approval Holder with EASA's design organization approval, as applicable). For a repair method to be approved, the repair approval must specifically refer to this AD.

(2) If liquid ingress is confirmed during any inspection required by paragraphs (h)(1) and (h)(2), before further flight, repair, using a method approved by the Manager, International Branch, ANM-116, Transport Airplane Directorate, FAA; or EASA (or its delegated agent, or the Design Approval Holder with EASA's design organization approval, as applicable). For a repair method to be approved, the repair approval must specifically refer to this AD.

(j) Inspection After Re-installation

If any rudder has been inspected as specified in Airbus Service Bulletin A300-55-6043, Revision 01, dated December 3, 2007; or A310-55-2044, Revision 01, dated December 3, 2007; as applicable; and has been removed and re-installed on any airplane after this inspection, that rudder must be re-inspected as required by paragraph (g) of this AD; and all applicable actions required by paragraphs (h) and (i) of this AD must be done.

(k) Parts Installation Limitation

As of the effective date of this AD, no person may install, on any airplane, a rudder assembly having a part number starting with A55471500, unless it has been inspected as required by paragraph (h) of this AD, and all applicable actions required by paragraph (i) of this AD have been done.

(l) Other FAA AD Provisions

The following provisions also apply to this AD:

(1) Alternative Methods of Compliance (AMOCs): The Manager, International Branch, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA approved. Corrective actions are considered FAA-approved if they were approved by the State of Design Authority (or its delegated agent, or the Design Approval Holder with a State of Design Authority's design organization approval, as applicable). You are required to ensure the product is airworthy before it is returned to service.

(m) Related Information

(1) Refer to Mandatory Continuing Airworthiness Information (MCAI) EASA Airworthiness Directive 2013-0039, dated February 26, 2013; for related information, which can be found in the AD docket on the Internet at http://www.regulations.gov.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Issued in Renton, Washington, on February 14, 2014.
Jeffrey E. Duven,
Manager, Transport Airplane Directorate, Aircraft Certification Service.

[FR Doc. 2014-04495 Filed 2-27-14; 8:45 am]

BILLING CODE 4910-13-P